DEPARTMENT OF HEALTH AND HUMAN SERVICES

National Institutes of Health

Center for Scientific Review; Amended Notice of Meeting

Notice is hereby given of a change in the meeting of the Center for Scientific Review Special Emphasis Panel, July 20, 2009, 8 a.m. to July 21, 2009, 6 p.m., Ritz Carlton Hotel, 1150 22nd Street, NW., Washington, DC, 20037 which was published in the Federal Register on June 15, 2009, 74 FR 28260-28262.

The meeting will be held at the Embassy Suites at the Chevy Chase Pavilion, 4300 Military Road, NW., Washington, DC 20015. The meeting dates and time remain the same. The meeting is closed to the public.

Dated: June 22, 2009.
Anna Snouffer,
Deputy Director, Office of Federal Advisory Committee Policy.

[FR Doc. E9-15588 Filed 6-30-09; 8:45 am]

BILLING CODE 4140-01-M